POSTAL SERVICE

39 CFR Part 111

Group E Post Office Box Service

AGENCY: Postal Service™.

ACTION: Final rule.

SUMMARY: The Postal Service™ is revising the Mailing Standards of the United States Postal Service, Domestic Mail Manual (DMM®) 508.4.6 to clarify eligibility, simplify the standards, and facilitate uniform administration for Group E (free) Post Office™ (PO) box service.

DATES: Effective Date: September 6, 2011.

FOR FURTHER INFORMATION CONTACT: Laurence Welling at 202-268-7792, Ken Hollies at 202-268-3083, or Richard Daigle at 202-268-6392.

SUPPLEMENTARY INFORMATION: On November 24, 2010, the Postal Service published a Federal Register proposed rule (75 FR 71642-71643) to clarify eligibility, simplify the standards, and facilitate uniform administration for Group E (free) PO Box™ service. The Postal Service received several comments in response to this proposed rule that are summarized later in this notice.

Group E PO Box service is provided free, with restrictions, to customers whose physical addresses are not eligible for any form of USPS carrier delivery service. This service is consistent with the USPS responsibility to provide universal mail delivery. This final rule simplifies and clarifies some of the language related to administering Group E PO Box service.

For this final rule, the Postal Service removes the descriptive term, “business location”, in favor of the general term “physical address”. The latter describes residential locations as well as business locations and no distinction between the two terms was intended.

USPS further deletes the reference to “out-of-bounds delivery receptacles” in favor of language recognizing that Group E PO Box service is not available when a physical address receives any form of USPS carrier delivery. Confusion over the intent of the meaning of “out-of-bounds” obscured the larger context wherein Group E service should never supplement a physical location's carrier delivery service. Clarifying the intent and eliminating this confusion may cause existing Group E customers to lose Group E eligibility for their physical addresses, while others whose physical locations the USPS chooses not to provide carrier service to may become eligible for Group E service.

The Postal Service also revises the DMM to acknowledge carrier delivery service that, once established to a particular physical address, eliminates Group E eligibility. Improved language in this section illustrates situations where no eligibility for Group E arises either because carrier delivery is available or because action (or inaction) by third parties precludes USPS from extending carrier delivery.

Comments Received

Three comments were received regarding the proposed rule, addressing multiple issues.

One commenter expressed concerns about the vagueness of terminology in the proposal, for determining how close a “physical address” and delivery receptacle must be. In response, the Postal Service intends to add a sentence to clarify that “at or near a physical address” should be determined by how carrier delivery is already established in a particular locale or ZIP Code™.

Two separate comments expressed concern that local offices might misuse “unsafe conditions” and “or other conditions” to deny Group E eligibility. One of the commenters also expressed concern about the impact of local discretion on decisions. In response to these concerns, it is the Postal Service opinion that neither commenter was aware that the examples currently listed in the DMM reflect restrictions that are out of Postal Service control and are not all inclusive. Recognizing this lack of clarity, this final rule attempts to provide a better explanation.

With respect to “unsafe conditions”, local Postmasters are best able to determine when mailbox placement might be unsafe for postal employees to attempt delivery or for customers to retrieve mail. Such decisions are made routinely by Postmasters while conforming with local practice, driving conditions, driver expectations, etc. Further, postmasters already make such decisions in contexts unrelated to Group E eligibility. Postmasters who determine that a proposed mailbox location is unsafe typically work with customers to find a solution that allows safe delivery.

One commenter expressed concern about the potential misuse of “or other conditions” is now addressed by the Postal Service as: (1) Clarifying that the examples contained in the current DMM consist of conditions outside the control of the Postal Service and, (2) by introducing the examples using “such as” so that it is understood that they are not all inclusive. By using these explanations, the “or other conditions” text is deleted from the final rule.

The foundation of Group E PO Box eligibility is a discretionary Postal Service decision not to extend carrier delivery to a specific carrier delivery point (e.g., a house). When conditions prevent carrier delivery, where it would otherwise be operationally feasible, Group E eligibility is not an option. The DMM will continue to identify examples of conditions, including “unsafe conditions” that preclude the Postal Service from deciding whether or not to extend carrier delivery.

The same commenter expressed concern about the fair administration of Group E eligibility. The Postal Service agrees about the importance of Group E in the context of its universal service obligation and at the time of implementation, the Postal Service identified Group E service as one tool for offering universal service under an overarching policy of providing one free form of delivery to each customer.

The Postal Service adopts the following changes to the Mailing Standards of the United States Postal Service, Domestic Mail Manual (DMM), which is incorporated by reference in the Code of Federal Regulations. See 39 CFR 111.1.

List of Subjects in 39 CFR Part 111

Administrative practice and procedure, Postal Service.

Accordingly, 39 CFR Part 111 is amended as follows:

PART 111—[AMENDED]

1. The authority citation for 39 CFR Part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM) as follows:

Mailing Standards of the United States Postal Service, Domestic Mail Manual (DMM)

* * * * *

500 Additional Mailing Services

* * * * *

508 Recipient Services

* * * * *

4.0 Post Office Box Service

* * * * *

4.6 Fee Group Assignments

* * * * *

[Revise the title, introductory text and items 4.6.2a, b and c, and eliminate item d in its entirety as follows:]

4.6.2 Free PO Box Service (Group E)

Customers may qualify for Group E (free) PO Box service at a Post Office if their physical address location meets all of the following criteria:

a. The physical address is within the geographic delivery ZIP Code boundaries administered by a Post Office.

b. The physical address constitutes a potential carrier delivery point of service.

c. USPS does not provide carrier delivery to a mail receptacle at or near a physical address for reasons in 4.6.3b. “At or near a physical address” is defined by reference to how carrier delivery is already established in a particular locale or ZIP Code.

[Revise the title and introductory text of 4.6.3 and add new items a through d as follows:]

4.6.3 Additional Standards for Free PO Box Service

Only one Group E (free) PO Box may be obtained for each potential carrier delivery point of service, under the following conditions:

a. Group E PO Box customers are assigned the smallest available box that reasonably accommodates their daily mail volume.

b. Eligibility for Group E PO Boxes does not extend to:

1. Individual tenants, contractors, employees, or other individuals receiving or eligible to receive single-point delivery to a location such as a hotel, college, military installation, campground, or transient trailer park.

2. Locations served, or eligible to be served, by centralized delivery or grouped receptacles such as cluster box units, apartment style receptacles, mailrooms, or clusters of roadside receptacles.

3. Locations where circumstances not within the control of the Postal Service prevent extension of carrier delivery, such as town ordinances, private roads, gated communities, unimproved or poorly maintained roadways, or unsafe conditions.

4. Locations served by a delivery receptacle that a customer chooses to locate along a carrier's line of travel and to which the Postal Service makes delivery.

c. A customer must pay the applicable fee for each PO Box requested in addition to the initial free Group E PO Box.

d. The online application tools described in 4.3.1b cannot be used for free PO Box service.

* * * * *

We will publish an appropriate amendment to 39 CFR Part 111 to reflect these changes.

Stanley F. Mires,
Chief Counsel, Legislative.

[FR Doc. 2011-17389 Filed 7-13-11; 8:45 am]

BILLING CODE 7710-12-P